FEDERAL COMMUNICATIONS COMMISSION

47 CFR Part 73

[DA 04-3612; MB Docket No. 04-287, RM-11044]

Radio Broadcasting Services; Booneville, KY

AGENCY: Federal Communications Commission.

ACTION: Proposed rule; dismissal.

SUMMARY: The Audio Division dismisses a Petition for Rule Making filed by Eastern Kentucky Educational Radio, requesting the allotment of Channel 227A at Booneville, Kentucky as that community's first local aural transmission service. See 69 FR 48443, August 10, 2004. Eastern Kentucky Educational Radio nor any other party, filed comments in support of the allotment of Channel 227A to Booneville, Kentucky. It is the Commission's policy to refrain from making a new allotment to a community absent a bona fide expression of interest.

ADDRESSES: Federal Communications Commission, 445 Twelfth Street, SW., Washington, DC 20554.

FOR FURTHER INFORMATION CONTACT: Victoria M. McCauley, Media Bureau, (202) 418-2180.

SUPPLEMENTARY INFORMATION: This is a synopsis of the Commission's Report and Order, MB Docket No. 04-287, adopted November 17, 2004, and released November 22, 2004. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com.

Federal Communications Commission.
John A. Karousos,
Assistant Chief, Audio Division, Media Bureau.

[FR Doc. 04-27042 Filed 12-8-04; 8:45 am]

BILLING CODE 6712-01-P